DEPARTMENT OF STATE

[Public Notice: 6994]

60-Day Notice of Proposed Information Collection: DS-1648, Application for A, G, or NATO Visa, OMB No. 1405-0100

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Application for A, G, or NATO Visa.

• OMB Control Number: 1405-0100.

• Type of Request: Revision of a Currently Approved Collection.

• Originating Office: Bureau of Consular Affairs, Office of Visa Services.

• Form Number: DS-1648.

• Respondents: All applicants for A, G, or NATO visas reauthorizations, excluding A-3, G-5 and NATO-7 applicants.

• Estimated Number of Respondents: 30,000.

• Estimated Number of Responses: 30,000.

• Average Hours per Response: 30 minutes.

• Total Estimated Burden: 15,000 hours.

• Frequency: Once per application.

• Obligation to Respond: Required to obtain benefit.

DATES: The Department will accept comments from the public up to 60 days from May 10, 2010.

ADDRESSES: You may submit comments by any of the following methods:

• E-mail: VisaRegs@state.gov (the subject line of the e-mail must be DS-1648).

• Mail (paper, disk, or CD-ROM submissions): Chief, Legislation and Regulation Division, Visa Services—DS-1648 Reauthorization, 2401 E Street, NW., Washington, DC 20520-30106.

• Fax: (202) 663-3898.

You must include the DS form number, information collection title, and OMB control number in any correspondence.

FOR FURTHER INFORMATION CONTACT: Direct requests for additional information regarding the collection listed in this notice, including requests for copies of the proposed information collection and supporting documents, to Lauren Prosnik of the Office of Visa Services, U.S. Department of State, 2401 E Street, NW., L-603, Washington, DC 20522, who may be reached at (202) 663-2951.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The Department of State uses Form DS-1648 to elicit information from applicants for a renewal of A, G, or NATO visas, exluding A-3, G-5 and NATO-7 applicants. An estimated 30,000 renewal applications are filed each year.

Methodology: The DS-1648 will be submitted electronically to the Department via the internet. The applicant will be instructed to print a confirmation page containing a bar coded record locator, which will be scanned at the time of processing.

Dated: April 19, 2010.
Edward J. Ramotowksi,
Acting Deputy Assistant Secretary, Bureau of Consular Affairs, Department of State.

[FR Doc. 2010-11006 Filed 5-7-10; 8:45 am]

BILLING CODE 4710-06-P